DEPARTMENT OF ENERGY

National Energy Technology Laboratory; Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-02NT41432, entitled “FY2002 Joint Office of Energy Efficiency and Renewable Energy (EERE) and Office of Fossil Energy (FE) Science Initiative.” The major goal of the Science Initiative is to advance research and development (R&D) of energy technologies by exploring and exploiting synergies among different research fields, technologies, investigator communities, and end-use applications. This cross-cutting approach seeks to widen the Department's R&D activities between energy efficient technologies and clean energy. This approach seeks to expand and formalize existing cooperation between EERE and FE.

DATES: The solicitation will be available on the “Industry Interactive Procurement System” (IIPS) webpage located at http://e-center.doe.gov on or about May 15, 2002.

ADDRESSES: Applicants can obtain access to the solicitation from IIPS address provided above or through DOE/NETL's website at http://www.netl.doe.gov/business.

FOR FURTHER INFORMATION CONTACT: D. Denise Riggi, MS I07, U.S. Department of Energy, National Energy Technology Laboratory, P.O. Box 880, 3610 Collins Ferry Road, Morgantown, WV 26507-0880. E-mail Address: driggi@netl.doe.gov. Telephone Number: (304) 285-4241.

SUPPLEMENTARY INFORMATION: The Science Initiative is intended to focus funding and effort on “bridge” R&D that falls between exploratory research, traditionally the province of university researchers, and pre-commercial applied R&D, where private sector firms and research institutions normally devote their efforts. Often this middle ground of research—crucial to identifying and proving the feasibility of multiple potential applications of a given fundamental scientific discovery—does not receive sufficient emphasis. For example, there are situations where an existing technology has obvious potential for significant performance and design gains, “if only” an identified hurdle can be overcome by a breakthrough in the application of the science underlying the technology. The primary objective of this solicitation is to pursue “bridge” research and development (R&D), of interest to EERE and FE, with ultimate applications that will promote energy efficiency and clean energy. This category of R&D occupies the spectrum between exploratory science and pre-commercial applied R&D. There are four general areas of interest (1) Materials Sciences; (2) Fuels and Chemical Sciences; (3) Sensors and Controls Sciences, and (4) Energy Conversion Sciences. Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV on April 24, 2002.
Dale A. Siciliano,
Deputy Director, Acquisition and Assistance Division.

[FR Doc. 02-10845 Filed 5-1-02; 8:45 am]

BILLING CODE 6450-01-P